FEDERAL COMMUNICATIONS COMMISSION

Notice of Public Information Collection(s) Being Reviewed by the Federal Communications Commission for Extension Under Delegated Authority

March 21, 2007.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by May 29, 2007. If you anticipate that you will be submitting comments, but find it difficult to do so within the period of time allowed by this notice, you should advise the contact listed below as soon as possible.

ADDRESSES: Direct all PRA comments to Allison E. Zaleski, Office of Management and Budget (OMB), Room 10236 NEOB, Washington, DC 20503, (202) 395-6466, or via fax at 202-395-5167, or via the Internet at Allison_E._Zaleski@omb.eop.gov. and to Judith-B.Herman@fcc.gov, Federal Communications Commission (FCC), Room 1-B441, 445 12th Street, SW., Washington, DC 20554. To submit your comments by e-mail send them to: PRA@fcc.gov. If you would like to obtain or view a copy of this information collection after the 60 day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control No.: 3060-0691.

Title: Amendment of Parts 2 and 90 of the Commission's Rules to Provide for the Use of 200 Channels Outside of the Designated Filing Areas in the 896-901 MHz Bands Allotted to the Specialized Mobile Radio Pool, 2nd Order on Reconsideration and 7th Report and Order for the 900 MHz Specialized Mobile Radio Service.

Form No.: N/A.

Type of Review: Extension of a currently approved collection.

Respondents: Business or other for-profit.

Number of Respondents: 135 respondents; 135 responses.

Estimated Time per Response: 2.5 hours.

Frequency of Response: On occasion reporting requirement, third party disclosure requirement and recordkeeping requirement.

Obligation to Respond: Required to obtain or retain benefits.

Total Annual Burden: 220 hours.

Annual Cost Burden: 34,000.

Privacy Act Impact Assessment: N/A.

Nature and Extent of Confidentiality: There is no need for confidentiality.

Needs and Uses: This collection will be submitted as an extension (no change in reporting, recordkeeping or third party disclosure requirements) after this 60 day comment period to Office of Management and Budget (OMB) in order to obtain the full three year clearance. This information collection contains the following reporting, recordkeeping, and third party requirements on auction winners or licensees: (1) Auction winners claiming status as a small business to submit detailed ownership and gross revenue information necessary to determine whether they qualify as a small business pursuant to Commission rules; (2) licensees who transfer licenses within three years to maintain a file of all documents and contracts pertaining to the transfer; and (3) licensees to submit information to verify that they meet the coverage requirements required by 47 CFR 90.665 at the three-year coverage benchmark and the five-year construction deadline. License winners are required to maintain certain information to ensure compliance with Commission rules. Specifically, (1) small business license winners are required to maintain a file over the license term containing ownership and gross revenue information necessary to determine their eligibility as a small business; and (2) licensees who transfer licenses within three years are to maintain a file of all documents and contracts pertaining to the transfer. Furthermore, in case a licensee defaults or loses its license, the Commission retains the discretion to re-auction those licenses. If licenses are re-auctioned, the new license winners would be required at the close of the re-auction to: (1) Submit and maintain detailed ownership and gross revenue information necessary to determine whether they qualify as a small business pursuant to Commission rules; (2) disclose the term of any joint bidding agreements, if any, with other auction participants in order to ensure the integrity of the market structure; (3) for licensees who transfer licenses within three years, maintain a file of all documents and contracts pertaining to the transfer; and (4) submit information to verify that they meet the coverage requirements required by 47 CFR 90.665.

OBM Control No.: 3060-0281.

Title: Section 90.651. Supplemental Reports Required of Licensees Authorized under this Subpart.

Form No.: N/A.

Type of Review: Extension of a currently approved collection.

Respondents: Business or other for-profit.

Number of Respondents: 4,947 respondents; 4,947 responses.

Estimated Time per Response: 10 minutes.

Frequency of Response: On occasion reporting requirement.

Obligation To Respond: Required to obtain or retain benefits.

Total Annual Burden: 1,649 hours.

Annual Cost Burden: N/A.

Privacy Act Impact Assessment: N/A.

Nature and Extent of Confidentiality: There is no need for confidentiality.

Needs and Uses: This collection will be submitted as an extension (no change in reporting, recordkeeping or third party disclosure requirements) after this 60-day comment period to Office of Management and Budget (OMB) in order to obtain the full three year clearance. The radio facilities addressed in this subpart of the rules are allocated on and governed by regulations designed to award facilities on a need basis determined by the number of mobile units served by each base station. This is necessary to avoid frequency hoarding by applicants. Further, the Commission licensing personnel use the information to maintain an accurate database of frequency users, and both the Commission and the public use the database information in spectrum planning, interference resolution and licensing activities.

Federal Communications Commission.
Marlene H. Dortch,
Secretary.

[FR Doc. 07-1499 Filed 3-27-07; 8:45 am]

BILLING CODE 6712-01-M